DEPARTMENT OF JUSTICE

Antitrust Division

Notice Pursuant to the National Cooperative Research and Production Act of 1993 ANSI Accredited Standards Committee “C18”

Notice is hereby given that, on September 17, 2004, pursuant to section 6(a) of the National Cooperative Research and Production Act of 1993, 15 U.S.C. 4301 et seq. (“the Act”), ANSI Accredited Standards Committee “C18” (“C18 Committee”), by its Secretariat, National Electrical Manufacturers Association (“NEMA”), has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: ANSI Accredited Standards Committee “C18”, Rosslyn, VA. The nature and scope of C18 Committee's standards development activities are: related to dry cells and batteries. Currently, C18 Committee maintains 11 standards relating to general specifications and safety for portable lithium and portable non-lithium batteries as well as portable rechargeable batteries. The standards developed by C18 Committee are published by NEMA.

Dorothy B. Fountain,
Deputy Director of Operations, Antitrust Division.

[FR Doc. 04-27543 Filed 12-15-04; 8:45 am]

BILLING CODE 4410-11-M